DEPARTMENT OF HEALTH AND HUMAN SERVICES

National Toxicology Program (NTP); Liaison and Scientific Review Office; Meeting of the Scientific Advisory Committee on Alternative Toxicological Methods (SACATM)

AGENCY: National Institute of Environmental Health Sciences (NIEHS), National Institutes of Health (NIH), HHS.

ACTION: Meeting announcement and request for comment.

SUMMARY: Pursuant to section 10(a) of the Federal Advisory Committee Act, as amended (5 U.S.C. Appendix 2), notice is hereby given of a meeting of the SACATM on December 12, 2005. The meeting is scheduled from 8:30 a.m. to adjournment (~5 p.m.) and is open to the public with attendance limited only by the space available. SACATM advises the Interagency Coordinating Committee on the Validation of Alternative Methods (ICCVAM), the NTP Interagency Center for the Evaluation of Alternative Toxicological Methods (NICEATM), and the Director of the NIEHS regarding statutorily mandated duties of ICCVAM and activities of NICEATM. SACATM provides advice on priorities and activities related to the development, validation, scientific review, regulatory acceptance, implementation, and national and international harmonization of new, revised, and alternative toxicological test methods. Additional information about SACATM, including the charter, roster, and records of past meetings can be found at http://ntp.niehs.nih.gov/ see “Advisory Board & Committees.”

DATES: The SACATM meeting will be held on December 12, 2005. All individuals who plan to attend are encouraged to register online at the NTP Web site by December 5, 2005, at http://ntp.niehs.nih.gov/ select “Advisory Boards & Committees.” In order to facilitate planning for this meeting, persons wishing to make an oral presentation are asked to notify the Executive Secretary for SACTAM via online registration, phone, or e-mail by December 5, 2005, (see ADDRESSES below). Written comments should also be received by December 5, 2005, to enable review by SACATM and NTP staff prior to the meeting.

ADDESSES: The SACATM meeting will be held at the Hilton Alexandria Old Town, 1767 King Street, Alexandria, VA 22314. Public comments and other correspondence should be directed to Dr. Kristina Thayer, Executive Secretary for SACATM (NTP Liaison and Scientific Review Office, NIEHS, P.O. Box 12233, MD A3-01, Research Triangle Park, NC 27709; telephone: 919-541-5021, fax: 919-541-0295; or e-mail: thayer@niehs.nih.gov). Persons needing special assistance, such as sign language interpretation or other reasonable accommodation in order to attend, should contact 919-541-2475 voice, 919-541-4644 TTY (text telephone), through the Federal TTY Relay System at 800-877-8339, or by e-mail to niehsoeeo@niehs.nih.gov. Requests should be made at least 7 days in advance of the event.

SUPPLEMENTARY INFORMATION:

Preliminary Agenda and Availability of Meeting Materials

A preliminary agenda is provided below. Additional background material will be posted on the NTP Web site as available at http://ntp.niehs.nih.gov/ see “Advisory Board & Committees” or available upon request (see ADDRESSES above). Following the meeting, summary minutes will be prepared and available at this Web site and upon request.

Preliminary Agenda, Scientific Advisory Committee on Alternative Toxicological Methods, December 12, 2005, Hilton Alexandria Old Town, 1767 King Street, Alexandria, VA 22314.

8:30 a.m.

• Call to Order, Introductions, and Recognition of Retiring Members.

• NICEATM and ICCVAM Update.

• Overview of the May 2005 Ocular Toxicity Scientific Symposia.

○ Mechanisms of Chemically-Induced Ocular Injury and Recovery.

○ Reducing Pain and Distress in Ocular Safety Testing.

• Performance Characteristics of the In Vivo Ocular Irritancy Test.

○ Public Comment.

• ICCVAM Evaluation of In Vitro Methods to Identify Ocular Sever Irritants and Corrosives: Report from the Expert Panel (Presentation).

○ Bovine Corneal Opacity and Permeability (BCOP) Assay.

○ Isolated Chicken Eye (ICE) Assay.

○ Isolated Rabbit Eye (IRE) Assay.

○ Hen's Egg Test—Chorion Allantoic Membrane (HET-CAM) Assay.

○ Reference Chemicals.

12 p.m.

LUNCH BREAK.

1 p.m.

• ICCVAM Evaluation of In Vitro Methods to Identify Ocular Severe Irritants and Corrosives: Report from the Expert Panel Continued.

○ Public Comment.

• ICCVAM Nominations.

○ Public Comment.

• ICCVAM-NICEATM-ECVAM Workshop on Validation Principles and Approaches for Toxicogenomic-based Method.

○ Public Comment.

• ECVAM Update.

• SACATM General Discussion.

~5 p.m.

ADJOURN.

Request for Comments

Public input at this meeting is invited and time is set aside for the presentation of public comments. Each organization is allowed one time slot per public comment period. At least 7 minutes will be allotted to each speaker, and if time permits, may be extended to 10 minutes. Registration for oral comments will also be available on-site, although time allowed for presentation by on-site registrants may be less than that for pre-registered speakers and will be determined by the number of persons who register at the meeting.

Persons registering to make oral comments are asked, if possible, to send a copy of their statement to the Executive Secretary for SACATM (see ADDRESSES above) by December 5, 2005, to enable review by SACATM and NIEHS/NTP staff prior to the meeting. Written statements can supplement and may expand the oral presentation. If registering on-site and reading from written text, please bring 40 copies of the statement for distribution and to supplement the record. Written comments received in response to this notice will be posted on the NTP Web site. Persons submitting written comments should include their name, affiliation, mailing address, phone, fax, e-mail, and sponsoring organization (if any) with the document.

Background Information on SACATM

The SACATM was established January 9, 2002, to fulfill section 3(d) of Public Law 106-545, the ICCVAM Authorization Act of 2000 [42 U.S.C. 285l-3(d)] and is composed of scientists from the public and private sectors (Federal Register: March 13, 2002: Vol. 67, No. 49, page 11358). The SACATM provides advice to the Director of the NIEHS, ICCVAM, and NICEATM regarding statutorily mandated duties of ICCVAM and activities of NICEATM. Additional information about SACATM, including the charter, roster, and records of past meetings can be found at http://ntp.niehs.nih.gov/ see “Advisory Board & Committees.” Information about NICEATM and ICCVAM activities can be found at the NICEATM/ICCVAM Web site (http://iccvam.niehs.nih.gov) or by contacting the Director of NICEATM, Dr. William Stokes (telephone: 919-541-2384, or E-mail: niceatm@niehs.nih.gov).

Dated: October 26, 2005.
Samuel H. Wilson,
Deputy Director, National Institute of Environmental Health Sciences.

[FR Doc. 05-22320 Filed 11-8-05; 8:45 am]

BILLING CODE 4140-01-P